Memorandum of January 20, 2025

Putting People Over Fish: Stopping Radical Environ­mentalism To Provide Water to Southern California

Memorandum for the Secretary of Commerce [and] the Secretary of the Interior

I hereby direct the Secretary of Commerce and Secretary of the Interior, in consultation with the heads of other departments and agencies of the United States as necessary, to immediately restart the work from my first Administration by the National Marine Fisheries Service, U.S. Fish and Wildlife Service, Bureau of Reclamation, and other agencies to route more water from the Sacramento-San Joaquin Delta to other parts of the state for use by the people there who desperately need a reliable water supply.

During my first term, the State of California, at the direction of its Governor, filed a lawsuit to stop my Administration from implementing improvements to California's water infrastructure. My Administration's plan would have allowed enormous amounts of water to flow from the snow melt and rainwater in rivers in Northern California to beneficial use in the Central Valley and Southern California. This catastrophic halt was allegedly in protection of the Delta smelt and other species of fish. Today, this enormous water supply flows wastefully into the Pacific Ocean.

The recent deadly and historically destructive wildfires in Southern California underscore why the State of California needs a reliable water supply and sound vegetation management practices in order to provide water desperately needed there, and why this plan must immediately be reimplemented.

Within 90 days of the date of this memorandum, the Secretary of Commerce and Secretary of the Interior shall report to me regarding the progress made in implementing the policies in this memorandum and provide any recommendations regarding future implementation.

THE WHITE HOUSE,

Washington, January 20, 2025

[FR Doc. 2025-02041

Filed 1-29-25; 8:45 am]

Billing code 3395-F4-P